DEPARTMENT OF TRANSPORTATION

Federal Aviation Administration

Notice of Passenger Facility Charge (PFC) Approvals and Disapprovals

AGENCY: Federal Aviation Administration (FAA), DOT.

ACTION: Monthly Notice of PFC Approvals and Disapprovals. In May 2012, there were three applications approved. This notice also includes information on one application, approved in April 2012, inadvertently left off the April 2012 notice. Additionally, four approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

PUBLIC AGENCY: Tri State Airport Authority, Huntington, West Virginia.

APPLICATION NUMBER: 12-07-C-00-HTS.

APPLICATION TYPE: Impose and use a PFC.

PFC LEVEL: $4.50.

TOTAL PFC REVENUE APPROVED IN THIS DECISION: $2,369,532.

EARLIEST CHARGE EFFECTIVE DATE: July 1, 2012.

ESTIMATED CHARGE EXPIRATION DATE: October 1, 2017.

CLASS OF AIR CARRIERS NOT REQUIRED TO COLLECT PFC'S: None.

Brief Description of Projects Approved for Collection and Use

Terminal center—phase I.

PFC application.

Improve airport drainage.

Acquire snow removal equipment.

Install perimeter fencing.

Rehabilitate terminal building.

Rehabilitate taxiway A (west).

Access road repair.

Rehabilitate taxiways g, E, C, F, and A (ramp edge).

Terminal center—phase II.

Environmental assessment—airfield development.

Brief Description of Projects Approved for Collection

Relocate taxiway A (east).

Install airport beacon.

Security enhancements.

Access road and parking lot.

Terminal center—phase III.

Acquire runway protection zone land.

Rehabilitate terminal building—phase IV.

Reconfigure airside terminal.

Replace airfield generators.

Seal coat runway.

DECISION DATE: April 30, 2012.

FOR FURTHER INFORMATION CONTACT: Matthew DiGiulian, Beckley Airports Field Office, (304) 252-6217.

PUBLIC AGENCY: Tulsa Airports Improvement Trust, Tulsa, Oklahoma.

APPLICATION NUMBER: 12-08-C-00-TUL.

APPLICATION TYPE: Impose and use a PFC.

PFC LEVEL: $4.50.

TOTAL PFC REVENUE APPROVED IN THIS DECISION: $3,430,000.

EARLIEST CHARGE EFFECTIVE DATE: June 1, 2020.

ESTIMATED CHARGE EXPIRATION DATE: December 1, 2020.

CLASS OF AIR CARRIERS NOT REQUIRED TO COLLECT PFC'S: Air taxi/commercial operators filing FAA Form 1800-31.

DETERMINATION: Approved. Based on information contained in the public agency's application, the FAA has determined that the proposed class accounts for less than 1 percent of the total annual enplanements at Tulsa International Airport.

Brief Description of Projects Approved for Collection and Use

Design and enabling projects for concourse A rehabilitation and improvement.

Passenger loading bridges.

Security exit lane equipment.

PFC consulting fees.

Brief Description of Disapproved Project

Electrical generators.

DETERMINATION: Disapproved. This project did not meet the requirements of § 158.15(b).

DECISION DATE: May 8, 2012.

FOR FURTHER INFORMATION CONTACT: Don Harris, Arkansas/Oklahoma Airports Development Office, (817) 222-5634.

PUBLIC AGENCY: Port of Port Angeles, Port Angeles, Washington.

APPLICATION NUMBER: 12-08-C-00-CLM.

APPLICATION TYPE: Impose and use a PFC.

PFC LEVEL: $3.00.

TOTAL PFC REVENUE APPROVED IN THIS DECISION: $161,209.

EARLIEST CHARGE EFFECTIVE DATE: July 1, 2012.

ESTIMATED CHARGE EXPIRATION DATE: April 1, 2014.

CLASS OF AIR CARRIERS NOT REQUIRED TO COLLECT PFC'S: None.

Brief Description of Projects Approved for Collection and Use

Terminal entrance road construction.

Taxilanes construction, phase II.

Terminal apron reconstruction.

Runway 8/26 lighting rehabilitation.

Taxilanes construction, phase III.

PFC administration.

DECISION DATE: May 8, 2012.

FOR FURTHER INFORMATION CONTACT: Trang Tran, Seattle Airports District Office, (425) 227-1662.

PUBLIC AGENCY: Yuma County Airport Authority, Yuma, Arizona.

APPLICATION NUMBER: 12-04-C-00-NYL.

APPLICATION TYPE: Impose and use a PFC.

PFC LEVEL: $4.50.

TOTAL PFC REVENUE APPROVED IN THIS DECISION: $250,000.

EARLIEST CHARGE EFFECTIVE DATE: July 1, 2018.

ESTIMATED CHARGE EXPIRATION DATE: October 1, 2021.

CLASS OF AIR CARRIERS NOT REQUIRED TO COLLECT PFC'S: Nonscheduled/on-demand air carriers filing FAA Form 1800-31.

DETERMINATION: Approved. Based on information contained in the public agency's application, the FAA has determined that the proposed class accounts for less than 1 percent of the total annual enplanements at Yuma Marine Corps Air Station/Yuma International Airport.

Brief Description of Project Approved for Collection and Use

Widen parallel taxiway Z.

DECISION DATE: May 18, 2012.

FOR FURTHER INFORMATION CONTACT: Darlene Williams, Los Angeles Airports District Office, (310) 725-3625.

Amendment to PFC Approvals
Amendment No. city, state | Amendment approved date | Original approved net PFC revenue | Amended estimated net PFC revenue | Original estimated charge expiration date | Amended estimated charge expiration date
05-05-C-07-EWR Newark, NJ | 04/06/12 | $556,442,435 | $566,136,035 | 07/1/11 | 09/1/11
10-08-C-01-SAV Savannah, GA | 05/03/12 | 4,066,265 | 6,669,248 | 04/1/16 | 12/1/16
11-17-C-02-BNA Nashville, TN | 05/04/12 | 2,512,500 | 2,797,105 | 03/1/17 | 06/1/17
08-07-C-01-DTW Detroit, MI | 05/18/12 | 257,020,320 | 227,653,568 | 08/1/34 | 02/1/34

Issued in Washington, DC, on May 31, 2012.
Joe Hebert,
Manager, Financial Analysis and Passenger Facility Charge Branch.

[FR Doc. 2012-13690 Filed 6-6-12; 8:45 am]

BILLING CODE 4910-13-M